DEPARTMENT OF THE INTERIOR

Fish and Wildlife Service

Notice of Availability of Final Comprehensive Conservation Plan and Environmental Assessment for the 39 North Dakota Limited-Interest National Wildlife Refuges

AGENCY: Fish and Wildlife Service, Interior.

ACTION: Notice of availability.

SUMMARY: The U.S. Fish and Wildlife Service (Service) announces that a Comprehensive Conservation Plan (CCP) for the 39 North Dakota Limited-interest National Wildlife Refuges is available. This CCP, prepared pursuant to the National Wildlife Refuge System Improvement Act of 1997 and the National Environmental Policy Act of 1969, describes how the Service intends to manage these 39 Refuges for the next 15 years.

ADDRESSES: A copy of the CCP may be obtained by writing to U.S. Fish and Wildlife Service, Division of Refuge Planning, 134 Union Boulevard, Suite 300, Lakewood, CO 80228; or downloaded from http://mountain-prairie.fws.gov/planning.

FOR FURTHER INFORMATION CONTACT: Laura King, Planning Team Leader, U.S. Fish and Wildlife Service, telephone 701-724-3097; fax 701-724-3683; or e-mail: laura_king@fws.gov.

SUPPLEMENTARY INFORMATION: The 39 North Dakota Limited-interest National Wildlife Refuges are Appert Lake, Ardoch, Bone Hill, Brumba, Buffalo Lake, Camp Lake, Canfield Lake, Cottonwood Lake, Dakota Lake, Half-way Lake, Hiddenwood, Hobart, Hutchinson Lake, Johnson Lake, Lake George, Lake Otis, Lake Patricia, Lambs Lake, Little Goose, Lords Lake, Lost Lake, Maple River, Pleasant Lake, Pretty Rock, Rabb Lake, Rock Lake, Rose Lake, School Section Lake, Sheyenne Lake, Sibley Lake, Silver Lake, Snyder Lake, Springwater, Stoney Slough, Sunburst Lake, Tomahawk, Willow Lake, Wintering River, and Wood Lake National Wildlife Refuges. Each of these refuges started out in the 1930s as flowage and/or refuge easement lands. This was the era of droughts, depression, and declining waterfowl populations. This flowage and/or refuge easement program (program) was initiated by the Franklin D. Roosevelt administration to address these crises on private lands. Through these easements, the Service acquired the right to control hunting and trapping on the entire easement area, and impound, maintain, and control water levels, and control the uses that occur on that water or other main water bodies (such as rivers and lakes). The landowners of these easement lands retain all other rights including the right to farm, graze, build structures, etc.

An additional status (beyond the existing flowage and/or refuge easements) was added in the late 1930s. Adjoining easement lands were combined and an approved acquisition boundary was designated resulting in 31 new National Wildlife Refuges. These Refuges were established through separate Executive Orders signed by President Franklin D. Roosevelt for the purpose of “* * * refuge[s] and breeding ground[s] for migratory birds and other wildlife * * * .” Seven additional Refuges were established in 1948 in the same manner but under the authority of the precursor to the Fish and Wildlife Coordination Act. Lake Otis, the remaining refuge, was established in the early 1970s as “* * * an inviolate sanctuary for migratory birds.” Combined, these Refuges encompass 47,296 acres, ranging in size from 160 acres (Half-way Lake) to 5,506 acres (Rock Lake). Although these are National Wildlife Refuges in name, the language in the establishing authorities does not apply unless the lands are acquired by the Service. After 70 years, 99 percent of the lands within the approved acquisition boundaries remain in private ownership; therefore, the original 1930s easement language remains the purpose for the majority of these refuges. Due to this fact, the Service has “limited-interest” in these refuges due to the restrictive management capabilities (as stated above) afforded by the easement.

The Draft CCP and Environmental Assessment (EA) was made available to the public for a 60-day review and comment period following the announcement in the Federal Register on October 5, 2005 (70 FR 58232). The Draft CCP/EA identified and evaluated two alternatives for managing these 39 Refuges for the next 15 years. Alternative A, the No Action Alternative, would have continued current management, which for the most part, has been minimal. Only minor improvements, such as repairs to water control structures on the impoundments, would continue under this alternative. No funding would be provided for this program, as in the past, and partnerships would be incidental to common interests and not actively pursued. Alternative B, the Preferred Alternative (Enhance the Program), first proposes that six Refuges, which have no potential to ever fully function as National Wildlife Refuges, be divested. These Refuges include Bone Hill, Camp Lake, Cottonwood Lake, Lake Patricia, Sheyenne Lake, and School Section Lake. This divestiture decision was based on the best available science and expert opinions, both by managers and biologists within the Service. This information was then evaluated by a divestiture model developed by a regional team. These six, for various reasons, were finally proposed for divestiture consideration. The justifications included State or other Federal agency ownership of the lands, extensive habitat loss, or lack of desirable habitat that would warrant such federal protection. This is the first step in the divestiture process. Implementation will require a proposal that will be sent to the Migratory Bird Conservation Commission for concurrence and then to Congress. No Refuge will be divested until an Act of Congress is signed. The remaining 33 Refuges will be managed in cooperation with the current landowners. At a minimum, landowners will receive an annual newsletter describing opportunities for receiving additional compensation for added habitat protection. These Refuges will be given priority for such programs as grassland and wetland easements, while the Service actively works with other conservation partners on mutual interests on these Refuges. These lands will also be given additional consideration as projects are submitted for land acquisition dollars available to the region. In order to implement this part of the CCP, the managing stations will first prioritize their individual Refuges by developing a greater understanding of the habitat types that occur and which types need added protection. The CCP states that highest priority will be given to native prairie habitat on all Refuges.

Under the preferred alternative, the Service will post all boundaries with a unique sign that will identify these refuges as private lands. As part of implementation, compatibility determinations (CD) will be completed for all proposed Service-controlled activities that occur on the uplands and water. These CDs could not be completed as part of the Final CCP. A significant part of implementation will be to work with over 200 landowners to determine their willingness to grant access for public use as the Service never acquired the right to control public access. Until the Service has worked out these negotiations, no CD can be completed. The Service will work with the State and willing landowners to determine if any additional public use opportunities are available including hunting, fishing, wildlife observation, wildlife photography, environmental education and interpretation. Trapping will continue on a permit-only basis for the purposes of protecting nesting migratory birds (including waterfowl and songbirds) and increase survival rates of young birds. Trappers will be required to provide annual reports of harvest and follow State regulations.

The Service is furnishing this notice to advise other agencies and the public of the availability of the Final CCP, to provide information on the desired conditions for the North Dakota Limited-interest Refuges, and to detail how the Service will implement management strategies. Based on the review and evaluation of the information contained in the environmental assessment, the Regional Director has determined that implementation of the Final CCP does not constitute a major Federal action that would significantly affect the quality of the human environment within the meaning of Section 102(2)(c) of the National Environmental Policy Act. Therefore, an Environmental Impact Statement will not be prepared. Future site-specific proposals discussed in the Final CCP will be addressed in separate planning efforts with full public involvement.

Dated: April 23, 2006.
James Slack,
Deputy Regional Director, Region 6, Denver, CO.

Editorial Note: This document was received at the Office of the Federal Register on March 27, 2007.

[FR Doc. E7-5884 Filed 3-30-07; 8:45 am]

BILLING CODE 4310-55-P